ENVIRONMENTAL PROTECTION AGENCY

[OECA-2004-0028; FRL-7864-3]

Agency Information Collection Activities; Submission to OMB for Review and Approval; Comment Request; Assessment of Compliance Assistance Projects (Renewal), OMB Control Number 2020-0015, EPA ICR Number 1860.03

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on February 28, 2005. Under OMB regulations, the Agency may continue to conduct or sponsor the collection of information while this submission is pending at OMB. This ICR describes the nature of the information collection and its estimated burden and cost.

DATES: Additional comments may be submitted on or before February 28, 2005.

ADDRESSES: Submit your comments, referencing docket ID number OECA-2004-0028, to (1) EPA online using EDOCKET (our preferred method), by e-mail to docket.oeca@epa.gov, or by mail to: EPA Docket Center, Environmental Protection Agency, Enforcement and Compliance Docket and Information Center, Mail Code 2201T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Hans Scheifele, Office of Compliance, Mail Code 2224A, Environmental Protection Agency, 1200 Pennsylvania Avenue, NW., Washington, DC 20460; telephone number: (202) 564-1459; fax number: (202) 564-0009; e-mail address: scheifele.hans@epa.gov.

SUPPLEMENTARY INFORMATION: EPA has submitted the following ICR to OMB for review and approval according to the procedures prescribed in 5 CFR 1320.12. On August 18, 2004 (69 FR 51282), EPA sought comments on this ICR pursuant to 5 CFR 1320.8(d). EPA received no comments.

EPA has established a public docket for this ICR under Docket ID No. OECA-2004-0028, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Assessment of Compliance Assistance Projects (Renewal)

Abstract: This information collection determines how well EPA compliance assistance tools and services meet customers needs and to assess the effectiveness of the assistance activities. This will be a voluntary collection of information to gauge customer satisfaction with the compliance assistance projects, measure any resulting changes in knowledge and/or behavior, and evaluate any environmental and human health impacts. EPA proposes to use assessment surveys to provide the agency with feedback on the compliance assistance documents, onsite visits, telephone assistance, web sites, and compliance assistance seminars and workshops delivered by headquarters and regional compliance assistance programs to the regulated community. This feedback will help EPA improve the quality and delivery of compliance assistance tools and services. This ICR will only provide anecdotal data for the purpose of informing EPA of the effectiveness of compliance assistance tools, and customer satisfaction with those tools. All assessments undertaken under this ICR will adhere to specific conditions to ensure that data is collected and used properly and efficiently. The information collection is voluntary, and will be limited to non-sensitive data concerning the quality of compliance assistance activities.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 9 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Business or other for profit, Farms, Federal Government, or State, Local, and Tribal Government.

Estimated Number of Respondents: 25,776.

Frequency of Response: One time.

Estimated Total Annual Hour Burden: 3,973.

Estimated Total Annual Cost: $273,000, which includes $0 annual capital or O&M costs, and $273,000 annual labor costs.

Changes in the Estimates: There is a small change in the burden as we anticipate a higher response rate for pre/post test surveys as compared to phone and mail surveys.

Dated: January 10, 2005.
Oscar Morales,
Director, Collection Strategies Division.

[FR Doc. 05-1530 Filed 1-26-05; 8:45 am]

BILLING CODE 6560-50-P